DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. 92-463, 86 Stat. 770) requires that public notice of these meeting be announced in the Federal Register.

DATES:

Tuesday, September 17, 2002, 8 a.m.-6 p.m.

Wednesday, September 18, 2002, 8 a.m.-5 p.m.

Public participation sessions will be held on:

Tuesday, September 17, 2002, 12:15-12:30 p.m, 5:45-6 p.m.

Wednesday, September 18, 2002, 11:45-12 noon, 4-4:15 p.m.

These times are subject to change as the meeting progresses. Please check with the meeting facilitator to confirm these times.

ADDRESSES: Sun Valley Lodge, One Sun Valley Road, Sun Valley, Idaho 83353-0010.

FOR FURTHER INFORMATION CONTACT: Ms. Wendy Lowe, Idaho National Engineering and Environmental Laboratory (INEEL) Citizens' Advisory Board (CAB) Facilitator, Jason Associates Corporation, 545 Shoup Avenue, Suite 335B, Idaho Falls, ID 83402, Phone (208) 522-1662 or visit the Board's Internet home page at http://www.ida.net/users/cab.

SUPPLEMENTARY INFORMATION:

Purpose of the Board: The purpose of the Board is to make recommendations to DOE and its regulators in the areas of future use, cleanup levels, waste disposition and cleanup priorities at the INEEL.

Tentative Agenda Topics: (Agenda topics may change up to the day of the meeting. Please contact Jason Associates for the most current agenda or visit the CAB's Internet site at www.ida.net/users/cab/.)

• Transition in INEEL's mission to Nuclear Energy

• Recent activities under the Environmental Management program

• DOE's strategic objectives for accelerating cleanup

• DOE's overall strategy for the buried waste

• DOE's strategy for removing calcine and for accelerating closure of the high-level waste tank farm

• Status of efforts to close high-level waste tanks 182 and 183

• Final High-Level Waste and Facilities Disposition Environmental Impact Statement

• Draft Wildland Fire Management Environmental Assessment

• Transfer of spent nuclear fuel from wet to dry storage at the Test Area North

• Water Integration Project roadmap and conceptual model summary

Public Participation: This meeting is open to the public. Written statements may be filed with the Board facilitator either before or after the meeting. Individuals who wish to make oral presentations pertaining to agenda items should contact the Board Chair at the address or telephone number listed above. Requests must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations. This Federal Register notice is being published less than 15 days prior to the meeting date due to programmatic issues that had to be resolved prior to the meeting date.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Wendy Lowe, INEEL CAB Facilitator, Jason Associates Corporation, 545 Shoup Avenue, Suite 335B, Idaho Falls, ID 83402 or by calling (208) 522-1662.

Issued at Washington, DC, on September 3, 2002.
Belinda G. Hood,
Acting Deputy Advisory Committee Management Officer.

[FR Doc. 02-22787 Filed 9-6-02; 8:45 am]

BILLING CODE 6450-01-P